DEPARTMENT OF AGRICULTURE

Forest Service

Tuolumne County Resource Advisory Committee

AGENCY: Forest Service, USDA.

ACTION: Notice of meeting.

SUMMARY: The Tuolumne County Resource Advisory Committee will meet on July 19, 2004, at the City of Sonora Fire Department, in Sonora, California. The purpose of the meeting is to review projects submitted by members of the community.

DATES: The meeting will be held July 19, 2004, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; e-mail pkaunert@fs.fed.us.

SUPPLEMENTARY INFORMATION: Agenda items to be covered include: (1) Presentation of ten community project submittals by the project proponents, with follow-up question and answer sessions. Time allocated for each presentation and question/answer session is 15 minutes; (2) Report out on County budget and RAC allocation; (3) Report by Tuolumne County Superintendent of Schools; and (4) Public comment on meeting proceedings. This meeting is open to the public.

Dated: May 20, 2004.
Tom Quinn,
Forest Supervisor.

[FR Doc. 04-11996 Filed 5-26-04; 8:45 am]

BILLING CODE 3410-ED-M